POSTAL SERVICE

Privacy Act of 1974; System of Records

AGENCY: Postal Service®.

ACTION: Notice of modified systems of records.

SUMMARY: The United States Postal Service® (USPS or Postal Service) is proposing to modify one General Privacy Act System of Records (SOR) to support the implementation of the Postal Service Health Benefits (PSHB) program as required by the Postal Service Reform Act of 2022 and the USPS Flexible Spending Account (FSA) Program. The PSHB program is a new, separate program within the Federal Employees Health Benefits (FEHB) Program, administered by the Office of Personnel Management (OPM). Modifications to this SOR are also being proposed to provide added transparency to an existing health benefits program for USPS non-career employees. The USPS Non-Career Employee Health Benefits Program is separate and distinct from the PSHB. Finally, SOR 100.400 is being modified to document the Office of Personnel Management (OPM) requirement to verify eligibility of dependents to receive health benefits under PSHB or FEHB.

DATES: These revisions will become effective without further notice on October 24, 2024 unless response to comments received on or before that date result in a contrary determination.

ADDRESSES: Comments may be submitted via email to the Privacy and Records Management Office, United States Postal Service Headquarters (uspsprivacyfedregnotice@usps.gov). To facilitate public inspection, arrangements to view copies of any written comments received will be made upon request.

FOR FURTHER INFORMATION CONTACT: Janine Castorina, Chief Privacy and Records Management Officer, Privacy and Records Management Office, 202-268-2000 or uspsprivacyfedregnotice@usps.gov.

SUPPLEMENTARY INFORMATION:

As stated above, the Postal Service is implementing the Postal Service Health Benefits (PSHB) program to meet the requirements of the Postal Service Reform Act of 2022.

The Postal Service continuously strives to improve the comprehensive benefits that are offered to employees. The FSA program is a valuable benefit to postal employees. As a pre-tax cafeteria plan, employees can set pre-tax monies aside to pay for routine and customary medical, dental, vision, and dependent care related expenses that meet eligibility requirements. In conjunction with the implementation of PSHB, the Postal Service has contracted with a private sector vendor to administer the FSA program, which is separate and distinct from the OPM affiliated vendor for the PSHB Program.

Modifications to this SOR are also being proposed to provide added transparency to an existing health benefits program for USPS non-career employees. The USPS Non-Career Employee Health Benefits Program is separate and distinct from the PSHB. The Postal Service maintains a contract with a healthcare provider to manage the medical and pharmacy benefits provided through the Non-Career Employee Health Benefits Program. The Postal Service does not request Personal Health Information (PHI) from the healthcare provider for non-career employees. The Postal Service does not receive itemized invoices to reimburse the healthcare provider for claims but does receive aggregated invoices that do not list individual services provided to employees or family members by name or other personal identifiers.

This notice is in accordance with the Privacy Act requirement that agencies publish their systems of records in the Federal Register when there is a revision, change, or addition, or when the agency establishes a new system of records. The Postal Service is proposing revisions to an existing system of records (SOR) to support the implementation of the PSHB and USPS FSA programs. In addition, revisions are proposed to document and promote transparency for an existing healthcare benefits program for non-career employees and to document OPM requirements to verify eligibility of dependents for healthcare benefits.

I. Background

The new PSHB Program will provide health insurance to eligible Postal Service employees, Postal Service annuitants and their eligible family members starting in 2025. The PSHB Program coverage will replace Federal Employees Health Benefit (FEHB) Program coverage for these groups. The new PSHB program takes effect January 1, 2025. Enrollment opportunities for USPS employees, annuitants (retirees) and their eligible family members will be made available during Open Season between November and December of 2024.

The Postal Service has participated in the Flexible Spending Account (FSA) Program administered by the Office of Personnel Management (OPM) since 2017. Currently, career employees of the United States Postal Service and non-career employees with more than one year of career postal employment are eligible for the FSA program. There is no employer (Postal Service) FSA contribution, nor is there an administrative fee charged for employees to participate. Participation is voluntary and re-enrollment is required each year to continue participation. The plan year is the calendar year. The annual open season is held for approximately four weeks aligned with the Federal benefits Open Season period that begins on the 2nd Monday in November and continues thru the 2nd Monday in December each year. The Postal Service Health Benefits (PSHB) Program and the new Postal Service FSA Program is being implemented simultaneously.

The private sector vendor for the FSA Program will utilize an Explanation of Benefits (EOB) statement to process claims. The employee may voluntarily consent to have their PSHB summary information transferred to the FSA vendor to provide ease of use when processing their FSA claims. The FSA EOB will contain information describing the out-of-pocket cost for employees such as, co-insurance, copays, deductibles, and eligible dependent care expenses. The EOB will include summary information from the medical benefits plan for type of visit or general service received (office visit, outpatient service, lab diagnostic, etc.), the billed amount, the amount the plan allows, the amount the plan will pay (or has paid) and the patients' out-of-pocket responsibility.

The EOB does not include any medical diagnosis, medical procedures or other Personal Health Information (PHI) but is limited to a listing of FSA eligible expenses for FSA claim filing purposes. FSA claims are paid to participants and providers based on employee preferences. The Postal Service will not request, collect or maintain any PHI data. The Postal Service will receive an aggregate bill invoice file that will include the amount of claims paid out on a periodic basis. The aggregate invoice will be used to assure accurate reimbursement to the private sector vendor for claims paid during a period of time.

The Postal Service currently offers non-career employees a healthcare plan with a Postal subsidy. This healthcare benefits program has been offered to meet the requirements of the Affordable Care Act of 2010. This program is separate and apart from the PSHB and FEHB Programs for career employees. A career employee is defined as one who is in a position covered by the Civil Service Retirement System (CSRS) or Federal Employees Retirement System (FERS). A non-career employee is not eligible to participate in either CSRS or FERS. The Postal Service intends to continue providing its non-career employees with a health benefit plan outside of PSHB.

USPS SOR 100.400 is also being modified to reflect the OPM requirement to verify eligibility of dependents to receive health benefits under PSHB or FEHB.

II. Rationale for Changes to USPS Privacy Act Systems of Records

The Postal Service is proposing modifications to USPS SOR 100.400, Personnel Compensation and Payroll Records to support the implementation of the Postal Service Health Benefits (PSHB) Program and the new USPS Flexible Spending Account (FSA) Program. In addition, modifications to SOR 100.400 are being proposed to provide transparency for an existing health benefits program for non-career employees and to document OPM requirements to determine dependent eligibility for health benefits. Summary of Changes to USPS SOR 100.400:

• Purpose(s) of the System: Added new Purposes # 16 through 22.

• Categories of Individuals Covered by the System: Added annuitants to category # 2; Added new categories of individuals # 4 and 5.

• Categories of Records in the System: Added health benefits enrollment code and payroll deduction to category # 1; Added new Categories of Records 4 through 6.

• Record Source Categories: Added annuitants to category # 1 and added new category # 3 for Employees who voluntarily participate in the USPS FSA program.

• Policies and Practices for Retention and Disposal of Records: Added new retention and disposal of records #12 through 14.

III. Description of the Modified Systems of Records

Pursuant to 5 U.S.C. 552a(e)(11), interested persons are invited to submit written data, views, or arguments on this proposal. A report of the proposed revisions to these SORs has been sent to Congress and to the Office of Management and Budget for their evaluations. The Postal Service does not expect that this modified system of records will have any adverse effect on individual privacy rights. Accordingly, for the reasons stated above, the Postal Service proposes revisions to SOR 100.400 presented below in its entirety:

SYSTEM NAME AND NUMBER:

USPS 100.400 Personnel Compensation and Payroll Records.

SECURITY CLASSIFICATION:

None.

SYSTEM LOCATION:

USPS Area and District Human Resources offices, the Human Resources Shared Services Center, Integrated Business Solutions Services Centers, Computer Operations Services Centers, Accounting Services Centers, other area and district facilities, USPS Headquarters, contractor sites, and all organizational units.

SYSTEM MANAGER(S):

Deputy Postmaster General and Chief Human Resources Officer, United States Postal Service, 475 L'Enfant Plaza SW, Washington, DC 20260.

Vice President, Human Resources, United States Postal Service, 475 L'Enfant Plaza SW, Washington, DC 20260.

Vice President, Controller, United States Postal Service, 475 L'Enfant Plaza SW, Washington, DC 20260.

AUTHORITY FOR MAINTENANCE OF THE SYSTEM:

39 U.S.C. 401, 409, 410, 1001, 1003, 1004, 1005, and 1206; 5 U.S.C 8903c; and 29 U.S.C. 2601 et seq.

PURPOSE(S) OF THE SYSTEM:

1. To support all necessary compensation and payroll activities and related management functions.

2. To generate lists of employee information for home mailings, dues membership, and other personnel support functions.

3. To generate retirement eligibility information and analysis of employees in various salary ranges.

4. To administer the purchase of uniforms.

5. To administer monetary awards programs and employee contests.

6. To detect improper payment related to injury compensation claims.

7. To adjudicate employee claims for loss or damage to their personal property in connection with or incident to their postal duties.

8. To process garnishment of employee wages.

9. To support statistical research and reporting.

10. To generate W-2 and 1095-C information for use with external third-party tax preparation services at the request of the individual employee.

11. To administer the USPS fleet card program used to purchase commercial fuel and oil, maintenance repair, polishing and washing, servicing, shuttling, and towing.

12. To develop and administer voluntary wellness challenges and programs to support individual employee wellness goals.

13. To track and summarize voluntary wellness challenge activities during each program cycle for individual employees and employee team participants.

14. To facilitate communication between the Postal Service and current and former employees.

15. To share relevant information and topics about the Postal Service with current and former employees.

16. To facilitate enrollment of Postal Service career employee and annuitants for healthcare plans offered under the Postal Service Health Benefit (PSHB) Program.

17. To administer payroll deductions for PSHB participants for employee healthcare premium contributions.

18. To facilitate enrollment in, and to administer the USPS Flexible Spending Account (FSA) Program and claims processing.

19. To administer payroll deductions for employees participating in the USPS FSA program.

20. To facilitate enrollment in, and to administer the USPS Non-Career Employee Health Benefits Program and claims processing.

21. To administer payroll deductions for USPS Non-Career Health Benefits Program participants for employee healthcare premium contributions.

22. To meet the Office of Personnel Management (OPM) requirements for verification of eligibility of dependents for healthcare benefit programs.

CATEGORIES OF INDIVIDUALS COVERED BY THE SYSTEM:

1. Current and former USPS employees and postmaster relief/leave replacement employees.

2. Current and former employees, annuitants, and their family members, beneficiaries, and former spouses who apply and qualify for benefits.

3. An agent or survivor of an employee who makes a claim for loss or damage to personal property.

4. Non-career employees eligible to participate in the USPS Non-Career Employee Health Benefits Program.

5. Career employees of the United States Postal Service and non-career employees with more than one year of career postal employment.

CATEGORIES OF RECORDS IN THE SYSTEM:

1. Employee and family member information: Name(s), Social Security Number(s), Employee Identification Number, ACE ID, date(s) of birth, postal assignment information, work contact information, home address(es) and phone number(s), SMS text message number, personal email address, finance number(s), occupation code, occupation title, duty location, and pay location, health benefits enrollment code, health benefits payroll deduction and Fuel Purchase Fleet Card Personal Identification Number (PIN).

2. Compensation and payroll information: Records related to payroll, annual salary, hourly rate, Rate Schedule Code (RSC) or pay type, payments, deductions, compensation, and benefits; uniform items purchased; proposals and decisions under monetary awards; suggestion programs and contests; injury compensation; monetary claims for personal property loss or damage; and garnishment of wages.

3. Voluntary Employee Wellness Participant Challenge and Program Tracking and Reporting Activities: Type of wellness activity or program, wellness activities and points tracked and reported, self-selected alias names for participants, department or team name, work duty location, gender, weight, reporting of top tier final results and/or prize winners by wellness challenge or program with employee permission.

4. FSA Program records: Name(s) of participating employees and their eligible family members, Employee Identification Number, home address(es) and phone number(s), plan year election date, account type and election amount(s).

5. USPS Non-Career Employee Health Benefits Program records: Name(s), Social Security Number(s), Employee Identification Number, ACE ID, date(s) of birth, postal assignment information, work contact information, home address(es) and phone number(s), SMS text message number, personal email address, finance number(s), occupation code, occupation title, duty location, and pay location.

6. Eligible Dependents for Health Benefits: Validation of dependent eligibility for healthcare benefits during enrollment.

RECORD SOURCE CATEGORIES:

1. Employees, annuitants, employees' supervisor or manager; other systems of records; claimants or their survivors or agents who make monetary claims; witnesses; investigative sources; courts; and insurance companies.

2. Voluntary employee wellness participant challenge and program initiative records.

3. Employees who voluntarily participate in the USPS FSA program.

ROUTINE USES OF RECORDS MAINTAINED IN THE SYSTEM, INCLUDING CATEGORIES OF USERS AND THE PURPOSES OF SUCH USES:

Standard routine uses 1. through 9. apply.

In addition:

(a) Records pertaining to financial institutions and to nonfederal insurance carriers and benefits providers elected by an employee may be disclosed for the purposes of salary payment or allotments, eligibility determination, claims, and payment of benefits.

(b) Records pertaining to supervisors and postmasters may be disclosed to supervisory and other managerial organizations recognized by USPS.

(c) Records pertaining to recipients of monetary awards may be disclosed to the news media when the information is of news interest and consistent with the public's right to know.

(d) Disclosure of records about current or former Postal Service employees may be made to requesting states under an approved computer matching program to determine employee participation in, and eligibility under, unemployment insurance programs administered by the states (and by those states to local governments), to improve program integrity, and to collect debts and overpayments owed to those governments and their components.

(e) Disclosure of records about current or former Postal Service employees may be made to requesting federal agencies or nonfederal entities under approved computer matching programs to make a determination of employee participation in, and eligibility under, particular benefit programs administered by those agencies or entities or by USPS; to improve program integrity; to collect debts and overpayments owed under those programs and to provide employees with due process rights prior to initiating any salary offset; and to identify those employees who are absent parents owing child support obligations and to collect debts owed as a result.

(f) Disclosure of records about current or former Postal Service employees may be made, upon request, to the Department of Defense (DoD) under approved computer matching programs to identify Postal Service employees who are ready reservists for the purposes of updating DoD's listings of ready reservists and to report reserve status information to USPS and the Congress; and to identify retired military employees who are subject to restrictions under the Dual Compensation Act and to take subsequent actions to reduce military retired pay or collect debts and overpayments.

(g) Disclosure of records may be made to the Internal Revenue Service under approved computer matching programs to identify current or former Postal Service employees who owe delinquent federal taxes or returns and to collect the unpaid taxes by levy on the salary of those individuals pursuant to Internal Revenue Code; and to make a determination as to the proper reporting of income tax purposes of an employee's wages, expenses, compensation, reimbursement, and taxes withheld and to take corrective action as warranted.

(h) Disclosure of the records about current or recently terminated Postal Service employees may be made to the Department of Transportation (DOT) under an approved computer matching program to identify individuals who appear in DOT's National Driver Register Problem Driver Pointer System. The matching results are used only to determine as a general matter whether commercial license suspension information within the pointer system would be beneficial in making selections of USPS motor vehicle and tractor-trailer operator personnel and will not be used for actual selection decisions.

(i) Disclosure of records about current or former Postal Service employees may be made to the Department of Health and Human Services under an approved computer matching program for further release to state child support enforcement agencies when needed to locate noncustodial parents, to establish and/or enforce child support obligations, and to locate parents who may be involved in parental kidnapping or child custody cases.

(j) Disclosure of records about current or former Postal Service employees may be made to the Department of the Treasury under Treasury Offset Program computer matching to establish the identity of the employee as an individual owing a delinquent debt to another federal agency and to offset the salary of the employee to repay that debt.

(k) Disclosure of employment and wage data records about current Postal Service employees may be made to the Bureau of Labor Statistics for use in their Occupational Employment Statistics program for the purpose of developing estimates of the number of jobs in certain occupations, and estimates of the wages paid to them.

(l) Disclosure of W-2 and 1095-C tax information records to external third-party tax preparation services.

POLICIES AND PRACTICES FOR STORAGE OF RECORDS:

Automated database, computer storage media, digital files, and paper files.

POLICIES AND PRACTICES FOR RETRIEVAL OF RECORDS:

By employee name, Social Security Number, Employee Identification Number, Fuel Purchase Fleet Card Personal Identification Number (PIN), or duty or pay location.

POLICIES AND PRACTICES FOR RETENTION AND DISPOSAL OF RECORDS:

1. Leave application and unauthorized overtime records are retained 3 years. Time and attendance records (other than payroll) and local payroll records are retained 3 years. Automated payroll records are retained 10 years.

2. Uniform allowance case files are retained 3 years; and automated records are retained 6 years.

3. Records of monetary awards with a status that they have been processed, failed processing, cancelled, or reported (Service Award Pins, Retirement Service Awards, Posthumous Service Awards) are retained 7 years, as payroll records would have been affected/processed. Records of award submissions with the status approved, deleted, or as a draft are retained 31 days, as payroll records would not have been affected/processed.

4. Records of employee-submitted ideas are maintained for 90 days after being closed.

5. Injury compensation records are retained 5 years. Records resulting in affirmative identifications become part of a research case file, which if research determines applicability, become either part of an investigative case record or a remuneration case record that is retained 2 years beyond the determination.

6. Monetary claims records are retained 3 years.

7. Automated records of garnishment cases are retained 6 months. Records located at a Post Office are retained 3 years.

8. Overtime administrative records are retained for 7 years.

9. Tax preparation records are limited to an employee's previous year's wages, tax documentation, and health insurance coverage as required by the Affordable Care Act.

10. Records pertaining to the USPS fuel fleet card purchase program are retained for 10 years.

11. Records related to voluntary wellness challenges and programs will be retained for 30 days after the conclusion of each challenge or program cycle.

12. Records related to the PSHB Program will be retained for duration of the employee's career.

13. Records related to the USPS Non-Career Employee Health Benefits Program will be retained for duration of the employee's career.

14. Records related to the USPS FSA program will be retained for 7 years.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

For the voluntary employee wellness initiative, employees will create their own profile and enter their own challenge activity progress. Employees without access to U.S. Postal Service computers and employees voluntarily participating in the weight loss challenges may opt-in to a manual process to have their profile created and entries updated by a designated wellness challenge coordinator for their geographic location. Participant alias names will be used in all wellness program dashboard participant input and activity reporting to protect the privacy of individuals. In addition, weight loss challenge dashboards will only display the percentage of weight loss for the employee by alias names, rather than actual weights.

RECORD ACCESS PROCEDURES:

Requests for access must be made in accordance with the Notification Procedure above and USPS Privacy Act regulations regarding access to records and verification of identity under 39 CFR 266.5.

CONTESTING RECORD PROCEDURES:

See Notification Procedure and Record Access Procedures above.

NOTIFICATION PROCEDURES:

Individuals wanting to know if information about them is maintained in this system must address inquiries to the facility head where currently or last employed. Headquarters employees must submit inquiries to Corporate Personnel Management, 475 L'Enfant Plaza SW, Washington, DC 20260. Inquiries must include full name, Social Security Number or Employee Identification Number, name and address of facility where last employed, and dates of USPS employment.

EXEMPTIONS PROMULGATED FOR THE SYSTEM:

Records in this system relating to injury compensation that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

HISTORY:

August 18, 2021, 86 FR 46281; June 15, 2020, 85 FR 29492; February 25, 2019, 84 FR 6022; February 23, 2017, 82 FR 11489; March 2, 2015, 80 FR 11241; June 17, 2011, 76 FR 35483; April 29, 2005, 70 FR 22516.

Christopher Doyle,
Attorney, Ethics & Legal Compliance.

[FR Doc. 2024-21660 Filed 9-23-24; 8:45 am]

BILLING CODE 7710-12-P